FEDERAL COMMUNICATIONS COMMISSION

[CC Docket No. 94-102; DA 01-1650]

Petition for Waiver of E911 Phase II Rules; Comments Invited

AGENCY: Federal Communications Commission.

ACTION: Solicitation of comments.

SUMMARY: The document invites comment on a Petition for Waiver (Petition) of the Commission's E911 Phase II rules, filed June 22, 2001, by Corr Wireless Communications, LLC (Corr). Current Phase II rules require wireless carriers to provide the precise location of wireless 911 calls to Public Safety Answering Points (PSAPs), a technological capability known as Automatic Location Identification (ALI). The rules permit wireless carriers to “phase-in” either a network-based or handset-based ALI technology. Handset-based solutions may be gradually phased in beginning October 1, 2001. Carriers employing network solutions are required to provide Phase II service to 50 percent of the PSAP's coverage area or population on October 1, 2001, or within six months of a PSAP request, whichever is later, and 100 percent of the PSAP's coverage area or population within a year thereafter.

Corr requested a temporary waiver of the Commission's Phase II rules to permit the carrier to deploy its network solution in conformity with its proposed graduated implementation schedule. Corr indicates that the Commission's six-month implementation deadline applicable to network-based solutions has been triggered by recent PSAP requests in its service area. According to Corr, the network solution is prohibitively expensive and a graduated implementation schedule is warranted to ease the economic burden on the carrier. Under Corr's proposed schedule, it will immediately order and install the switch-related infrastructure necessary to provide Phase II service. Thereafter, Corr proposes to provide service to the top 35 percent (measured by 911 service) of the cell sites of any requesting jurisdiction within 9 months of receiving a request, and 50 percent and 75 percent of cell sites within 12 months and 18 months, respectively.

The full text of the petition is available for public inspection during regular business hours in the FCC Public Reference Room, Room CY-A257, 445 12th Street, SW., Washington, DC 20554. Pursuant to 47 CFR 1.1200(a), this proceeding is designated as a “permit but disclose” proceeding and subject to § 1.1206 of the Commission's Rules. Presentations to or from Commission decision making personnel are permissible, provided that ex parte presentations are disclosed pursuant 47 CFR 1.1206(b).

Interested parties may file comments responding to the Petition on or before July 26, 2001, and reply comments on or before August 6, 2001. Comments may be filed using the Commission's Electronic Comment Filing System (ECFS) or by filing paper copies. Comments filed through ECFS can be sent as an electronic file via the Internet to http://www.fcc.gov/e-file/ecfs.hmtl. Only one copy of an electronic submission must be filed. In completing the transmittal screen, commenters should include their full name, postal service mailing address, and the applicable docket or rulemaking number of this proceeding. Parties may also submit an electronic comment by Interest e-mail. To get filing instructions for e-mail comments, commenters should send an e-mail to ecfs@fcc.gov, and should include the following words in the body of the message, “get form<your e-mail address>.” A sample form and directions will be sent in reply. Parties who choose to file by paper must file an original and four copies of each filing.

DATES: Comments are due on or before July 26, 2001, and reply comments are due on or before August 6, 2001.

ADDRESSES: All filings must be sent to the Commission's Secretary, Magalie Roman Salas, Office of the Secretary, Federal Communications Commission, 445 12th Street, SW., Washington, DC 20554. A copy should also be sent to Steven Rangel, Room 8A-831, Federal Communications Commission, 445 12th Street, SW., Washington, DC 20554.

FOR FURTHER INFORMATION CONTACT: Daniel Grosh and Steven Rangel, 202-418-1310.

Federal Communications Commission
Thomas J. Sugrue,
Chief, Wireless Telecommunications Bureau.

[FR Doc. 01-18129 Filed 7-18-01; 8:45 am]

BILLING CODE 6712-01-P